DEPARTMENT OF JUSTICE

Antitrust Division

Notice Pursuant to the National Cooperative Research and Production Act of 1993—American Association of Motor Vehicle Administrators

Notice is hereby given that, on September 15, 2004, pursuant to section 6(a) of the National Cooperative Research and Production Act of 1993, 15 U.S.C. 4301 et seq. (“the Act”), American Association of Motor Vehicle Administrators (“AAMVA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Association of Motor Vehicle Administrators, Arlington, VA. The nature and scope of AAMVA's standards development activities are: common names, abbreviations, definitions, uses, sources, synonyms and representations of data elements transmitted and communicated by state and local traffic records systems. AAMVA is also responsible for specifications of contents and layouts for machine readable technologies such as smart cards, magnetic strips, 1D bar codes, 2D bar codes, in particular PDF 417 on state motor vehicle administration documentation such as titles, registrations, identification cards and driver licenses.

Dorothy B. Fountain,
Deputy Director of Operations, Antitrust Division.

[FR Doc. 04-23515 Filed 10-20-04; 8:45 am]

BILLING CODE 4410-11-M